NUCLEAR REGULATORY COMMISSION

[Docket No. 30-35059-CivP; ASLBP No. 04-834-01-CivP]

U.S. Inspection Services; Establishment of Atomic Safety and Licensing Board

Pursuant to delegation by the Commission dated December 29, 1972, published in the Federal Register, 37 Fed. Reg. 28,710 (1972), and the Commission's regulations, see 10 CFR 2.104, 2.300, 2.303, 2.309, 2.311, 2.318, and 2.321, notice is hereby given that an Atomic Safety and Licensing Board is being established to preside over the following proceeding: U.S. Inspection Services, Dayton, Ohio, (Civil Monetary Penalty).

This proceeding concerns a request for hearing submitted on September 24, 2004, by U.S. Inspection Services (USIS) in response to a September 1, 2004 notice (69 FR 54,816 (Sept. 10, 2004)), regarding a Notice Of Violation and Proposed Imposition of Civil Penalty associated with an inspection of USIS activities on September 12, 2003, that indicated USIS had not been conducting its activities in full compliance with NRC requirements.

The Board is comprised of the following administrative judges:

Ann M. Young, Chair, Atomic Safety and Licensing Board Panel, U.S. Nuclear Regulatory Commission, Washington, DC 20555-0001.

Alex S. Karlin, Atomic Safety and Licensing Board Panel, U.S. Nuclear Regulatory Commission, Washington, DC 20555-0001.

Dr. Peter S. Lam, Atomic Safety and Licensing Board Panel, U.S. Nuclear Regulatory Commission, Washington, DC 20555-0001.

All correspondence, documents, and other materials shall be filed with the administrative judges in accordance with 10 CFR 2.302.

Issued at Rockville, Maryland, this 1st day of November 2004.
G. Paul Bollwerk, III,
Chief Administrative Judge, Atomic Safety and Licensing Board Panel.

[FR Doc. 04-24705 Filed 11-4-04; 8:45 am]

BILLING CODE 7590-01-P